DEPARTMENT OF ENERGY

Federal Energy Regulatory Commission

[Docket No. CP20-32-000]

Notice of Request Under Blanket Authorization; Gulf South Pipeline Company, LP

Take notice that on December 20, 2019, Gulf South Pipeline Company, LP (Gulf South), 9 Greenway Plaza, Suite 2800, Houston, Texas 77046, filed a prior notice application pursuant to sections 157.205(b), 157.208(c), 157.210, and 157.216 of the Federal Energy Regulatory Commission's (Commission) regulations under the Natural Gas Act (NGA), and Gulf South's blanket certificate issued in Docket No. CP82-430-000. Gulf South requests authorization to improve the efficiency and reliability of its McComb Compressor Station located on Gulf South's Index 130 mainline in Walthall County, Mississippi, all as more fully set forth in the application, which is open to the public for inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Specifically, Gulf South proposes to (1) retire in-place one of the seven existing reciprocating compressor units (Unit 3) at the station, as it has suffered mechanical damage; (2) install one new Solar Taurus 70-T10802S Centrifugal Compressor (T70) package, including its required ancillary, auxiliary equipment and yard and station piping; and (3) place three of the six remaining reciprocating compressor units on standby.

Gulf South states, that only three existing reciprocating gas compressors are operated with the T70 during the station's full load capacity, all located in Walthall County, Mississippi. The proposed modifications will result in an increase of certificated capacity of 48,000 dekatherms per day (Dth/d) from Harrisville receipts on Index 130 to deliveries on Gulf South's existing 24-inch Index 133 system. One primary improved point would be Gulf South's Transco Walthall Interconnect in south Mississippi.

Any questions regarding this application should be directed to Juan Eligio Jr. Supervisor, Regulatory Affairs, Gulf South Pipeline, LP, 9 Greenway Plaza, Suite 2800, Houston, Texas 77046 or phone (713) 479-3480, or by email at Juan.Eligio@bwpipelines.com.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Pursuant to section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Persons who wish to comment only on the environmental review of this project should submit an original and two copies of their comments to the Secretary of the Commission. Environmental commenters will be placed on the Commission's environmental mailing list, and will be notified of any meetings associated with the Commission's environmental review process. Environmental commenters will not be required to serve copies of filed documents on all other parties. However, the non-party commenter will not receive copies of all documents filed by other parties or issued by the Commission and will not have the right to seek court review of the Commission's final order.

The Commission strongly encourages electronic filings of comments, protests and interventions in lieu of paper using the “eFiling” link at http://www.ferc.gov. Persons unable to file electronically should submit an original and 3 copies of the protest or intervention to the Federal Energy Regulatory Commission, 888 First Street NE, Washington, DC 20426.

Dated: December 30, 2019.
Nathaniel J. Davis, Sr.,
Deputy Secretary.

[FR Doc. 2019-28497 Filed 1-3-20; 8:45 am]

BILLING CODE 6717-01-P